FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 003966N.

Name: Amerasa Rapid Transit USA Inc.

Address: 2490-M Arnold Industrial Way, Concord, CA 94520.

Date Revoked: September 21, 2004.

Reason: Failed to maintain a valid bond.

License Number: 000479F.

Name: Barian Shipping Company Inc.

Address: 910 Railroad Avenue, Woodmere, NY 11598.

Date Revoked: September 9, 2004.

Reason: Failed to maintain a valid bond.

License Number: 004548NF.

Name: Boss Shipping, Inc.

Address: 1890 NW 82nd Avenue, Suite 101, Miami, FL 33126.

Date Revoked: September 3, 2004.

Reason: Failed to maintain valid bonds.

License Number: 002860F.

Name: Calabresi International, Inc.

Address: 203 Carondelet Street, Suite 829, New Orleans, LA 70130.

Date Revoked: September 29, 2004.

Reason: Failed to maintain a valid bond.

License Number: 003077F.

Name: Dan San Diego dba SAS International.

Address: 200 62nd Street, Brooklyn, NY 11220.

Date Revoked: July 9, 2004.

Reason: Failed to maintain a valid bond.

License Number: 009867N.

Name: Harro Schumacher dba Schumacher Cargo Lines.

Address: 15501 Texaco Avenue, Paramount, CA 90723.

Date Revoked: September 22, 2004.

Reason: Failed to maintain a valid bond.

License Number: 012964N.

Name: Mon Dela Vega Singh dba Mon Cargo Services, International.

Address: 130 Doolittle Drive, Units 21 & 22, San Leandro, CA 94577.

Date Revoked: September 14, 2004.

Reason: Failed to maintain a valid bond.

License Number: 004598NF.

Name: Precision Worldwide Transport, Inc.

Address: 6581 Mars Road, Cranberry Township, PA 16066.

Date Revoked: September 19, 2004.

Reason: Failed to maintain valid bonds.

License Number: 004395N.

Name: Superior Link International Inc.

Address: 380 S. Lemon Avenue, Suite B1-G, Walnut, CA 91789.

Date Revoked: September 27, 2004.

Reason: Failed to maintain a valid bond.

License Number: 002648F.

Name: Traveria's Cargo, Inc.

Address: 1621 SW., 15th Street, Miami, FL 33145.

Date Revoked: September 24, 2004.

Reason: Failed to maintain a valid bond.

License Number: 013778N.

Name: Triton Shipping Co., Inc.

Address: 8081 NW., 87th Street, Miami, FL 33166.

Date Revoked: September 24, 2004.

Reason: Failed to maintain a valid bond.

Sandra L. Kusumoto,
Director, Bureau of Certification and Licensing.

[FR Doc. 04-22519 Filed 10-5-04; 8:45 am]

BILLING CODE 6730-01-P